ENVIRONMENTAL PROTECTION AGENCY

40 CFR Parts 136 and 372

[EPA-HQ-OPPT-2024-0507; EPA-HQ-OW-2024-0328; FRL-12590-02-OA]

Two Proposed Rules Published by the Environmental Protection Agency With Comment Periods That Close February 18, 2025, to February 20, 2025; Reopening of Comment Periods

AGENCY: Environmental Protection Agency (EPA).

ACTION: Notices of proposed rulemaking; reopening of comment periods.

SUMMARY: This reopens the comment period for 30 days for two proposed rules published by the Environmental Protection Agency in the Federal Register on January 17, 2025, and January 21, 2025. This document reopens the comment period for two proposed rules with comments periods that closed February 18, 2025, and February 20, 2025. Additional details about these actions can be found in the SUPPLEMENTARY INFORMATION section of this document.

DATES: The comment periods for FRL-12309-01-OCSPP (FR 2024-31406) (90 FR 5795, January 17, 2025) and FRL-11799-01-OW (FR 2024-29239) (90 FR 6967, January 21, 2025) are reopened. Comments must be received by EPA on or before March 24, 2025.

ADDRESSES: You may send comments, identified by appropriate Docket ID number listed in the table below by any of the following methods:

• Federal eRulemaking Portal: https://www.regulations.gov/ (our preferred method). Follow the online instructions for submitting comments.

Instructions: All submissions received must include the Docket ID No. for the original rulemaking as listed in the table in SUPPLEMENTARY INFORMATION. Comments received may be posted without change to https://www.regulations.gov, including personal information provided.

FOR FURTHER INFORMATION CONTACT: William Nickerson, Director, Office of Regulatory Policy and Management, Office of Policy, Mail code 1804, U.S. Environmental Protection Agency, 1200 Pennsylvania Ave. NW, Washington, DC 20460; (202) 566-0326; nickerson.william@epa.gov.

SUPPLEMENTARY INFORMATION: This document reopens the comment period for two proposed rules published on January 17, 2025, and January 21, 2025. Comments for both must now be received on or before March 24, 2025.

Federal Register citation | Title | Publication date | Original comment period end date | Docket ID
90 FR 5795 | Toxics Release Inventory (TRI); Clarification of Toxic Chemicals Due to Automatic Additions of Per- and Polyfluoroalkyl Substances Under the National Defense Authorization Act (FRL-12309-01-OCSPP) | 1/17/2025 | 2/18/2025 | EPA-HQ-OPPT-2024-0507.
90 FR 6967 | Clean Water Act Methods Update Rule 22 for the Analysis of Contaminants in Effluent (FRL-11799-01-OW) | 1/21/2025 | 2/20/2025 | EPA-HQ-OW-2024-0328.

This document reopens the public comment period for the proposed rule “Toxics Release Inventory (TRI); Clarification of Toxic Chemicals Due to Automatic Additions of Per- and Polyfluoroalkyl Substances Under the National Defense Authorization Act,” established in the Federal Register document of January 17, 2025 (90 FR 5795) (FRL-12309-01-OCSPP), for 30 days. The National Defense Authorization Act for Fiscal Year 2020 (NDAA) adds certain per- and polyfluoroalkyl substances (PFAS) automatically to the Toxics Release Inventory (TRI) beginning January 1 of the year following specific triggering events. In the January 17th action, the EPA proposed conforming edits to the TRI regulation to explicitly include PFAS that are added to the TRI chemical list automatically pursuant to the NDAA in the regulation's definition of “toxic chemical.” This edit confirms that the TRI supplier notification provision requires covered suppliers to notify customers receiving a mixture or other trade name product containing a TRI-listed chemical with the first shipment of each calendar year, with such a requirement beginning on January 1 of the applicable year; thus, supplier notifications are required as of January 1 for any NDAA-added PFAS.

This document reopens the public comment period for the proposed rule “Clean Water Act Methods Update Rule 22 for the Analysis of Contaminants in Effluent” established in the Federal Register document of January 21, 2025 (90 FR 6967) (FRL-11799-01-OW), for 30 days. The EPA is proposing to promulgate new methods and update the tables of approved methods for the Clean Water Act. The Clean Water Act requires the EPA to promulgate test procedures for the analysis of pollutants. Promulgating new methods and updating the tables of approved methods increases the quality and consistency of data collected for the purposes of the Clean Water Act. In this rule, the EPA proposes to add new EPA methods for per- and polyfluoroalkyl substances (PFAS) and polychlorinated biphenyl (PCB) congeners, and add methods previously published by voluntary consensus bodies that industries and municipalities would use for reporting under the EPA's National Pollutant Discharge Elimination System permit program. The EPA also proposes to withdraw the seven Aroclor (PCB mixtures) parameters. In addition, the EPA is proposing to simplify the sampling requirements for two volatile organic compounds and make a series of minor corrections to existing tables of approved methods. This proposed rule does not mandate when a parameter must be monitored or establish a discharge limit.

EPA is reopening these comment periods to allow interested parties additional time to thoroughly review and analyze how these proposed rules may impact parties potentially subject to them. Comments previously submitted need not be resubmitted as they are already incorporated into the public record and will be considered in the final action as appropriate. Where appropriate, the Agency may consider further extending the comment period for the above referenced actions.

To submit comments, or access the docket, please follow the detailed instructions provided under ADDRESSES. If you have questions, consult the technical persons listed under FOR FURTHER INFORMATION CONTACT.

Lee Zeldin,
Administrator.

[FR Doc. 2025-02913 Filed 2-20-25; 8:45 am]

BILLING CODE 6560-50-P